DEPARTMENT OF THE INTERIOR

Office of the Secretary

Privacy Act of 1974, as Amended; Revisions to the Existing System of Records

AGENCY: Office of the Secretary.

ACTION: Proposed revisions to an existing system of records.

SUMMARY: The Department of the Interior (DOI) is issuing public notice of its intent to amend a Department-wide Privacy Act System of Records Notice in its inventory of records systems subject to the Privacy Act of 1974 (5 U.S.C. 552a). DOI-71, “Electronic FOIA Tracking System and FOIA Case Files—Interior,” is being amended to include a centralized Office of the Solicitor FOIA (Freedom of Information Act) database and related files, as well as add their system owner and system location to the existing notice.

SYSTEM LOCATION:

The additional system location is in the Office of the Solicitor network in the Department of the Interior (DOI), Washington, DC 20240.

SYSTEM MANAGER AND ADDRESS:

The additional system manager is the Office of the Solicitor FOIA Officer, Office of the Solicitor, U.S. Department of the Interior, 1849 C Street, NW., MS-6429 MIB, Washington, DC 20240, who has overall responsibility for the policies and procedures used to operate this system.

DATES: This amendment shall be effective on publication in the Federal Register (February 25, 2010). Additional information regarding this amendment may be obtained from the Departmental Privacy Office, 1849 C Street, NW., Mail Stop 7456, Washington, DC 20240, telephone (202) 208-1605.

Dated: February 5, 2010.
Linda S. Thomas,
Privacy Act Specialist, Departmental Privacy Office.

[FR Doc. 2010-3760 Filed 2-24-10; 8:45 am]

BILLING CODE 4310-RK-P